INTERNATIONAL TRADE COMMISSION

[Investigation No. 731-TA-669 (Third Review)]

Cased Pencils From China

Determination

On the basis of the record ¹ developed in the subject five-year review, the United States International Trade Commission (Commission) determines, pursuant to section 751(c) of the Tariff Act of 1930 (19 U.S.C. 1675(c)), that revocation of the antidumping duty order on cased pencils from China would be likely to lead to continuation or recurrence of material injury to an industry in the United States within a reasonably foreseeable time.

¹ The record is defined in sec. 207.2(f) of the Commission's Rules of Practice and Procedure (19 CFR 207.2(f)).

Background

The Commission instituted this review on November 1, 2010 (75 FR 67102) and determined on February 4, 2011 that it would conduct an expedited review (76 FR 11267, March 1, 2011).

The Commission transmitted its determination in this review to the Secretary of Commerce on June 27, 2011. The views of the Commission are contained in USITC Publication 4239 (June 2011), entitled Cased Pencils from China: Investigation No. 731-TA-669 (Third Review).

By order of the Commission.
Issued: June 27, 2011.
James R. Holbein,
Secretary to the Commission.

[FR Doc. 2011-16537 Filed 6-30-11; 8:45 am]

BILLING CODE 7020-02-P